DEPARTMENT OF AGRICULTURE

Agricultural Marketing Service

[Docket No. ST-06-01]

Notice of Request for Extension and Revision of a Currently Approved Information Collection

AGENCY: Agricultural Marketing Service, USDA

ACTION: Notice and request for comments.

SUMMARY: In accordance with the Paperwork Reduction Act of 1995 (44 U.S.C. Chapter 35), this notice announces the Agricultural Marketing Service's (AMS), Science and Technology Program's intention to include three new public information collection request forms when submitting its request for approval from the Office of Management and Budget (OMB), for an extension of and revision to OMB 0581-0055, “Application for Plant Variety Protection Certification and Objective Description of Variety.” Copies of the proposed forms may be obtained by calling the Plant Variety Protection Office (PVPO) contact listed.

DATES: Comments on this notice must be received by April 3, 2006.

Additional Information or Comments: Contact Bernadette Thomas, Information Technology Specialist, Plant Variety Protection Office (PVPO), Science and Technology, AMS, Room 401, National Agricultural Library (NAL), 10301 Baltimore Avenue, Beltsville, MD 20705; Telephone (301) 504-5297 and Fax (301) 504-5291.

SUPPLEMENTARY INFORMATION: Title: Regulations Governing the Application for Plant Variety Protection Certificate and Reporting Requirements under the Plant Variety Protection Act.

OMB Number: 0581-0055.

Expiration Date of Approval: June 30, 2006.

Type of Request: Extension and revision of a currently approved information collection.

Abstract: The Plant Variety Protection Act (PVPA) (7 U.S.C. 2321 et seq.) was established “To encourage the development of novel varieties of sexually reproduced plants and make them available to the public, providing protection available to those who breed, develop, or discover them, and thereby promote progress in agriculture in the public interest.”

The PVPA is a voluntary user funded program which grants intellectual property rights protection to breeders of new, distinct, uniform, and stable seed reproduced and tuber propagated plant varieties. To obtain these rights the applicant must provide information which shows the variety is eligible for protection and that it is indeed new, distinct, uniform, and stable as the law requires. Application forms, descriptive forms, and ownership forms are furnished to applicants to identify the information which is required to be furnished by the applicant in order to legally issue a certificate of protection (ownership). The certificate is based on claims of the breeder and cannot be issued on the basis of reports in publications not submitted by the applicant. Regulations implementing the PVPA appear at 7 CFR part 92.

Currently approved forms ST-470, Application for Plant Variety Protection Certificate, Form ST-470 series, Objective Description of Variety (Exhibit C to Form ST-470P), and Form ST-470-E, Statement of Basis of Applicant's Ownership, are the basis by which the determination, by PVPO, is made as to whether a new, distinct, uniform, and stable seed reproduced or tuber-propagated variety in fact exists and is entitled to protection.

The application form would be revised to add Exhibit F, Declaration Regarding Deposit. This addition would be made because the regulations have been revised to allow applicants to submit a declaration that a voucher seed sample will be deposited, rather than requiring that the deposit be made at the time of the application. The application form would also be revised slightly to update the Voucher Sample to 3,000 viable untreated seeds and the Filing and Examination fee. The information received on applications, with certain exceptions, is required by law to remain confidential until the certificate is issued (7 U.S.C. 2426).

The three new forms to be included in the renewal submission for approval to OMB are:

Form ST-471: Request for Credit Card Services.

Abstract: The information collected on Form ST-471 will be used to authorize payment by credit card for services requested by users of this fee-for-service program. It allows the requestor to specify their contact and billing information. It guides the requestor in providing sufficient details regarding the service to be performed so that PVP Office staff will know how to apply the payment. The list of services and their fees are provided on Page 2 of 3 on the form.

Estimate of Burden: Public reporting burden for this form is estimated to average .5 hours per response.

Respondents: PVP applicants and other requestors of PVP services.

Estimated Number of Respondents: 75.

Estimated Number of Responses per Respondent: 3.

Estimated Total Annual Responses: 225.

Estimated Total Annual Burden on Respondents: 112.50.

Form ST-472: National Center for Genetic Resources Preservation Deposit Form for Plant Variety Protection Voucher Sample.

Abstract: The National Center for Genetic Resources Preservation (NCGRP) requests that certain identification accompany the deposit of seed samples into their seed storage facility, including who the depositor is and what is being deposited. In the past most of this information had been provided by the PVP Office since voucher seed samples were required to be sent to the PVP Office when an application for Plant Variety Protection is filed. A change in procedure allows applicants to submit their voucher seed samples directly to the NCGRP. As a result of this change in procedure, the information collected from applicants on Form ST-472 will provide the NCGRP and the PVP Office with the information necessary to deposit a PVP voucher sample. In order to handle the sample appropriately, the NCGRP would need to know whether it is a genetically engineered organism and whether the material is patented.

Estimate of Burden: Public reporting burden for this form is estimated to average .5 hours per response.

Respondents: PVP applicants.

Estimated Number of Respondents: 75.

Estimated Number of Responses per Respondent: 3.

Estimated Total Annual Responses: 225.

Estimated Total Annual Burden on Respondents: 112.50.

Form ST-473: Recordation Form for Plant Variety Protection Office.

Abstract: For program purposes, it is important that the ownership, contact information, and any encumbrances against PVP Certificates are recorded within the PVP Office. Currently, changes in this information are often reported in an inconsistent or incomplete manner. This can cause difficulties in recording the information and contacting the owner, which can result in cancellation of their intellectual property rights. The information collected on Form ST-473 will be used to record changes in ownership, contact information, assignment, security interest, variety name, and certified seed options, in an orderly fashion.

Estimate of Burden: Public reporting burden for this form is estimated to average .5 hours per response.

Respondents: PVP Applicants.

Estimated Number of Respondents: 25.

Estimated Number of Responses per Respondent: 1.

Estimated Total Annual Responses: 25.

Estimated Total Annual Burden on Respondents: 12.50.

The information collection requirements in this request are essential to carry out the intent of the PVPA, to provide applicants with certificates of protection, to provide the respondents the type of service they request, and to administer the program.

Estimate of Burden: Total public reporting burden for this entire collection is estimated to average .733 hours per response.

Respondents: Businesses or other for-profit, not-for-profit institutions, and Federal Government.

Estimated Number of Respondents: 110.

Estimated Number of Responses per Respondent: 21.

Estimated Total Annual Responses: 2,280.

Estimated Total Annual Burden on Respondents: 1,671.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Bernadette Thomas, Information Technology Specialist, Plant Variety Protection Office, Room 401, NAL Building, 10301 Baltimore Avenue, Beltsville, MD 20705. All comments received will be available for public inspection during regular business hours at the same address.

All responses to this notice will be summarized and included in the request for OMB approval. All comments will become a matter of public record.

Dated: January 30, 2006.
Lloyd C. Day,
Administrator, Agricultural Marketing Service.

[FR Doc. E6-1382 Filed 2-1-06; 8:45 am]

BILLING CODE 3410-02-P